DEPARTMENT OF HOMELAND SECURITY

Coast Guard

33 CFR Part 100

[Docket No. USCG-2025-0329]

Special Local Regulations; Marine Events in the Coast Guard Sector Detroit Captain of the Port Zone—July to August 2025

AGENCY: Coast Guard, DHS.

ACTION: Notice of enforcement of regulation.

SUMMARY: The Coast Guard will enforce various special local regulations for the annual regattas and marine parades on dates between July 11, 2025, and August 31, 2025, in the Captain of the Port Detroit zone. Our regulation for marine events within Sector Detroit identifies the regulated area for these events. During the enforcement periods, the operator of any vessel in the regulated area must comply with directions from the Patrol Commander or any Official Patrol displaying a Coast Guard ensign.

DATES: The regulations in 33 CFR 100.911 will be enforced for the regulated areas listed in table 1 to § 100.911, as follows:

• Event No. (4): Swim Across America (formerly known as Motor City Mile, Detroit, MI)—from 7 a.m. through 12 p.m. on July 11, 2025.

• Event No. (7): St. Clair River Classic Power Boat Race (St. Clair, MI)—from 10 a.m. through 7 p.m. on July 27, 2025.

• Event No. (9): Detroit Hydrofest Power Boat Race, (Detroit, MI)—from 7 a.m. on August 22, 2024, through 7 p.m. on August 24, 2025

• Event No. (12): Michigan Championships Swimming Event (Detroit, MI)—from 7 a.m. through 1 p.m. on August 31, 2025.

FOR FURTHER INFORMATION CONTACT: If you have questions about this notification of enforcement, call or email Tracy Girard, Prevention Department, U.S. Coast Guard; telephone (313) 568-9564, email Tracy.M.Girard@uscg.mil.

SUPPLEMENTARY INFORMATION: The Coast Guard will enforce multiple special local regulations for annual events in the Captain of the Port Detroit Zone listed in table 1 to 33 CFR 100.911, for the following events:

• Event No. (4): Swim Across America (formerly known as Motor City Mile, Detroit, MI)—from 7:00 a.m. through 12:00 p.m. on July 11, 2025.

• Event No. (7): St. Clair River Classic Power Boat Race (St. Clair, MI)—from 10:00 a.m. through 7:00 p.m. on July 27, 2025.

• Event No. (9): Detroit Hydrofest Power Boat Race, (Detroit, MI)—from 7 a.m. on August 22, 2024, through 7 p.m. on August 24, 2025.

• Event No. (12): Michigan Championships Swimming Event (Detroit, MI)—from 7 a.m. through 1 p.m. on August 31, 2025.

In accordance with the requirements of § 100.911, entry into, transiting, or anchoring within these regulated areas during the enforcement periods is prohibited unless authorized by the Coast Guard patrol commander (PATCOM). Those seeking permission to enter the regulated areas may request permission from the PATCOM. Vessels permitted to enter this regulated area must operate at a no-wake speed and in a manner that will not endanger race participants or any other craft.

The PATCOM may direct the anchoring, mooring, or movement of any vessel within this regulated area. A succession of sharp, short signals by whistle or horn from vessels patrolling the area under the direction of the PATCOM shall serve as a signal to stop. Vessels so signaled shall stop and shall comply with the orders of the PATCOM. Failure to do so may result in expulsion from the area, a Notice of Violation for failure to comply, or both. Additionally, vessels shall yield right-of-way for event participants and event safety craft and shall follow directions given by the Coast Guard's on-scene representative or by event representatives during the event.

If it is deemed necessary for the protection of life and property, the PATCOM may terminate the marine event or the operation of any vessel within the regulated area.

In accordance with the general regulations in § 100.40 of this part, the Coast Guard will patrol the regatta area under the direction of a designated Coast Guard Patrol Commander (PATCOM). The PATCOM, or his designated “on-scene representative”, may be contacted on Channel 16 (156.8 MHz) by the call sign “Coast Guard Patrol Commander.”

In addition to this notice of enforcement in the Federal Register, the Coast Guard will provide the maritime community with advance notification of this enforcement period via Broadcast Notice to Mariners or Local Notice to Mariners. If the Captain of the Port determines that any of these special local regulations need not be enforced for the full duration stated in this document, he may suspend such enforcement and notify the public of the suspension via a Broadcast Notice to Mariners.

Dated: April 22, 2025.
Richard P. Armstrong,
Captain, U.S. Coast Guard, Captain of the Port Detroit.

[FR Doc. 2025-07733 Filed 5-2-25; 8:45 am]

BILLING CODE 9110-04-P